DEPARTMENT OF THE INTERIOR

National Park Service

Notice of Intent To Prepare a Draft Environmental Impact Statement on the General Management Plan Amendment and Development Concept Plan for Chalmette Battlefield and National Cemetery, an Administrative Unit of Jean Lafitte National Historical Park and Preserve, Louisiana

SUMMARY: Pursuant to section 102(2)(c) of the National Environmental Policy Act of 1969 (NEPA), the National Park Service (Service) will prepare an Environmental Impact Statement (EIS) to accompany its General Management Plan Amendment and Development Concept Plan (GMPA/DCP) for Chalmette Battlefield and National Cemetery. The Service will conduct public scoping meetings in the local area to receive input from interested parties on issues, concerns, and suggestions pertinent to managing cultural and natural resource conditions and visitor experiences at the site. Duration of the comment period for public scoping will be announced at the meetings and will be published on the Jean Lafitte National Historical Park and Preserve website at http://www.nps.gov/jela.

DATES: Locations, dates, and times of public scoping meetings will be published in local newspapers and may also be obtained by calling Jean Lafitte National Historical Park and Preserve. This information will also be published on the Jean Lafitte National Historical Park and Preserve website.

ADDRESS: Scoping suggestions should be submitted to the following address to ensure adequate consideration by the Service: Superintendent, Jean Lafitte National Historical Park and Preserve, 419 Rue Decatur, New Orleans, Louisiana 70130-1142, Telephone: 504-589-3882.

FOR FURTHER INFORMATION CONTACT: Superintendent, Jean Lafitte National Historical Park and Preserve, 419 Rue Decatur, New Orleans, Louisiana 70130-1142, Telephone: 504-589-3882.

SUPPLEMENTARY INFORMATION: The National Park Service has announced that an EIS will be prepared for this GMPA/DCP. To comply with Service and NEPA policy, a formal scoping period is announced.

Comments are invited on any issue believed to be relevant to the management of Chalmette Battlefield and National Cemetery and should be submitted to the Superintendent whose address is given above. Public scoping meetings will be held in the local area and the dates and times may be obtained from local newspapers, the Jean Lafitte National Historical Park and Preserve website, or by calling Jean Lafitte National Historical Park and Preserve. We urge that comments and suggestions be made in writing.

Our practice is to make the public comments we receive in response to planning documents, including names and home addresses of respondents, available for public review during regular business hours. If you wish for us to withhold your name and/or address, you must state this prominently at the beginning of your comment. Anonymous comments will be included in the public record; however, the Service is not legally required to consider or respond to anonymous comments. We will make all submissions from organizations or businesses, and from individuals identifying themselves as representatives or officials of organizations or businesses, available for public inspection in their entirety.

Issues currently being considered include determining the most appropriate use of existing structures, enhancement of vehicle and pedestrian circulation, identification of future infrastructure needs, and how to best fulfill the park's interpretive mission. Central to these issues is definition of the national battlefield and cemetery's mission, purpose, and significance. The plan will identify desired future conditions for cultural and natural resources and visitor experiences for various management units within Chalmette Battlefield and National Cemetery. A schematic site design will be developed to further define potential physical changes to the historic landscape. A draft GMPA/DCP/EIS will be prepared and presented to the public for review and comment, followed by preparation and availability of the final GMPA/DCP/EIS.

The responsible official for this environmental impact statement is William W. Schenk, Regional Director, National Park Service, Southeast Region, 100 Alabama Street SW., Atlanta, Georgia 30303.

Dated: April 17, 2003.
W. Thomas Brown,
Acting Regional Director, Southeast Region.

[FR Doc. 03-10907 Filed 5-1-03; 8:45 am]

BILLING CODE 4310-70-P